DEPARTMENT OF THE INTERIOR

Minerals Management Service

30 CFR Parts 202 and 206

RIN 1010-AB57

Training Class on the New Indian Gas Valuation Regulations

AGENCY: Minerals Management Service, Interior.

ACTION: Notice of training.

SUMMARY: The Minerals Management Service (MMS) is providing training on the new Indian Gas Valuation Regulations published in the Federal Register on August 10, 1999 (64 FR 43506). MMS is offering this class at no cost to oil and gas industry representatives and members of the public who have an interest in the valuation of gas produced from Indian lands.

DATES: The training class will be held on Wednesday, March 29, 2000, 8:30 a.m. to 4:00 p.m., Mountain Standard Time.

ADDRESSES: The training class will be held at the Sheraton Billings Hotel, 27 North 27th Street, Billings, Montana 59101, telephone number (406) 252-7400.

FOR FURTHER INFORMATION CONTACT: Theresa Walsh Bayani, Royalty Valuation Division, Royalty Management Program, Minerals Management Service, P.O. Box 25165, MS 3152, Denver, Colorado 80225-0165, telephone number (303) 275-7247 or fax number (303) 275-7227.

SUPPLEMENTARY INFORMATION: The revised regulations, which became effective on January 1, 2000, add alternative valuation methods to the March 1, 1988, regulations to ensure that Indian lessors receive maximum revenues from their mineral resources as required by the unique terms of Indian leases and MMS's trust responsibility to Indian lessors. The revised regulations will also improve the accuracy of royalty payments at the time those royalties are due.

If you produce gas from Indian lands, the new regulations affect you, and we strongly encourage you to attend this training class. Some of the topics include:

• How do you value gas in an index zone using the index-based formula?

• How do you value gas not in an index zone?

• How do you make a dual accounting election?

• What are the changes to transportation and processing allowances?

If you plan to attend this training class, please register by calling or sending a fax to Ms. Anna Hooker at telephone number (303) 275-7241, or fax number (303) 275-7227. Seating is limited and we need to know the number in your party. You must make your own travel and hotel reservations for the training. MMS will not reserve blocks of rooms.

Dated: February 25, 2000.
Lucy Querques Denett,
Associate Director for Royalty Management.

[FR Doc. 00-5094 Filed 3-2-00; 8:45 am]

BILLING CODE 4310-MR-P